DEPARTMENT OF HEALTH AND HUMAN SERVICES

National Institutes of Health

National Institute on Drug Abuse; Amended Notice of Meeting

Notice is hereby given of changes in the meeting of the National Institute on Drug Abuse Special Emphasis Panel, October 2, 2012, 1:00 p.m. to October 2, 2012, 4:00 p.m., National Institutes of Health, Neuroscience Center, 6001 Executive Boulevard, Rockville, MD 20852 which was published in the Federal Register on September 6, 2012, 77; 173 FR 2012-21889.

The date and time of the meeting are changed to November 8, 2012, 1:00 p.m. to November 8, 2012, 2:00 p.m. The meeting is closed to the public.

Dated: October 9, 2012.
Michelle Trout,
Program Analyst, Office of Federal Advisory Committee Policy.

[FR Doc. 2012-25446 Filed 10-16-12; 8:45 am]

BILLING CODE 4140-01-P